DEPARTMENT OF ENERGY

Federal Energy Regulatory Commission

[Docket Nos. ER06-615-000; ER07-1257-000; ER08-1113-000]

California Independent System Operator Corporation; Notice of FERC Staff Attendance

February 3, 2009.

The Federal Energy Regulatory Commission (Commission) hereby gives notice that on the following dates members of its staff will participate in teleconferences and meetings to be conducted by the California Independent System Operator (CAISO). The agenda and other documents for the teleconferences and meetings are available on the CAISO's Web site, http://www.caiso.com.

February 10, 2009

Teleconference on MRTU Parallel Operations

Teleconference on Systems Interface Users

Board of Governors Meeting

February 11, 2009

Teleconference on Settlements

February 17, 2009

Teleconference on MRTU Parallel Operations

Teleconference on Systems Interface Users

February 18, 2009

Teleconference on Settlements

MRTU Implementation Workshop

February 19, 2009

MRTU Quality of Solution Meeting

Sponsored by the CAISO, the teleconferences and meetings are open to all market participants, and Commission staff's attendance is part of the Commission's ongoing outreach efforts. The teleconferences and meetings may discuss matters at issue in the above captioned dockets.

For further information, contact Saeed Farrokhpay at saeed.farrokhpay@ferc.gov; (916) 294-0233 or Maury Kruth at maury.kruth@ferc.gov, (916) 294-0275.

Kimberly D. Bose,
Secretary.

[FR Doc. E9-2690 Filed 2-9-09; 8:45 am]

BILLING CODE 6717-01-P